DEPARTMENT OF LABOR

Employment and Training Administration

[TA-W-54,455]

Weirton Steel Corporation, Weirton, West Virginia; Notice of Negative Determination Regarding Application for Reconsideration

By application of June 18, 2004, a company representative requested administrative reconsideration of the Department's negative determination regarding eligibility for workers and former workers of the subject firm to apply for Trade Adjustment Assistance (TAA). The denial notice was signed on May 14, 2004, and published in the Federal Register on June 2, 2004 (69 FR 31135).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, which was filed on behalf of workers at Weirton Steel Corporation, Weirton, West Virginia engaged in the production of hot-rolled, cold-rolled, tin-plate and hot dipped, and electrolytic galvanized steel, was denied because the “contributed importantly” group eligibility requirement of section 222 of the Trade Act of 1974, as amended, was not met. The subject firm did not increase its reliance on imports of hot-rolled, cold-rolled, tin-plate and hot dipped and electrolytic galvanized steel during the relevant time period, nor did they shift production to a foreign source. The “contributed importantly” test is generally demonstrated through a survey of the workers' firm's customers to determine the correlation between customers' increased reliance on imports and the subject firm's decreased sales during the relevant period. The investigation revealed that sales of hot-rolled, cold-rolled, tin-plate and hot dipped, and electrolytic galvanized steel at the subject firm increased from 2002 to 2003 and from January through February, 2004 compared with the same period in 2003. Even though the survey of the subject firm's major customers would have been irrelevant in this case, the Department conducted a survey of the subject firm's major customers regarding their purchases of competitive products in 2002, 2003, and January through February of 2004. The survey revealed that imports did not contribute importantly to layoffs at the subject firm.

In the request for reconsideration, the company representative requests to extend the period for investigation beyond the relevant time period in order to include the circumstances bearing evidence of sales declines and import impact, registered by the Department during a previous investigation which resulted in TAA certification granted to workers of the subject firm in April of 2002, TA-W-39,657.

The Department considers import impact in terms of the relevant period of the current investigation; therefore sales declines and import impact as established in a previous investigation that is outside the relevant period are irrelevant. The Department must conform to the Trade Act and associated regulations.

Should conditions change in the future, the company is encouraged to file a new petition on behalf of the worker group which will encompass an investigative period that will include these changing conditions.

Conclusion

After review of the application and investigative findings, I conclude that there has been no error or misinterpretation of the law or of the facts which would justify reconsideration of the Department of Labor's prior decision. Accordingly, the application is denied.

Signed in Washington, DC, this 23rd day of July, 2004.
Elliott Kushner,
Certifying Officer, Division of Trade Adjustment Assistance.

[FR Doc. 04-17724 Filed 8-3-04; 8:45 am]

BILLING CODE 4510-30-P